DEPARTMENT OF LABOR

Employment and Training Administration

[TA-W-72,781]

World Color (USA), LLC Formerly Known as Quebecor World World Color Covington Including On-Site Leased Workers From Randstad Temporary Agency and IH Services; Covington, TN; Amended Certification Regarding Eligibility To Apply for Worker Adjustment Assistance

In accordance with Section 223 of the Trade Act of 1974, as amended (“Act”), 19 U.S.C. 2273, the Department of Labor issued a Certification of Eligibility to Apply for Worker Adjustment Assistance on May 14, 2010, applicable to workers of World Color (USA), LLC, formerly known as Quebecor World, World Color Covington, Dyersburg Facility, including on-site leased workers from Randstad Temporary Agency, Covington, Tennessee. The notice was published in the Federal Register on March 5, 2010 (75 FR 30067). At the request of the petitioners, the Department reviewed the certification for workers of the subject firm. The workers are engaged in activities related to the production of magazines.

The company reports that workers leased from IH Services were employed on-site at the Covington, Tennessee, location of World Color (USA), LLC, formerly known as Quebecor World, World Color Covington. The Department has determined that these workers were sufficiently under the control of the subject firm to be considered leased workers.

Based on these findings, the Department is amending this certification to include workers leased from IH Services working on-site at the Covington, Tennessee, location of World Color (USA), LLC, formerly known as Quebecor World, World Color Covington.

The intent of the Department's certification is to include all workers employed at World Color (USA), LLC, formerly known as Quebecor World, World Color Covington who were adversely affected by a shift in production of magazines to Columbia and Canada.

The amended notice applicable to TA-W-72,781 is hereby issued as follows:

“All workers of World Color (USA), LLC, Formerly known as Quebecor World, World Color Covington, including on-site leased workers Randstad Temporary Agency and IH Services, Covington, Tennessee, who became totally or partially separated from employment on or after November 4, 2008, through May 14, 2012, and all workers in the group threatened with total or partial separation from employment on the date of certification through two years from the date of certification, are eligible to apply for adjustment assistance under Chapter 2 of Title II of the Trade Act of 1974, as amended.”

Signed at Washington, DC, this 30th day of July 2010.
Michael W. Jaffe,
Certifying Officer, Division of Trade Adjustment Assistance.

[FR Doc. 2010-20030 Filed 8-12-10; 8:45 am]

BILLING CODE 4510-FN-P